DEPARTMENT OF COMMERCE

International Trade Administration

(C-489-502)

Final Results of Countervailing Duty Administrative Review: Certain Welded Carbon Steel Standard Pipe from Turkey

AGENCY: Import Administration, International Trade Administration, Department of Commerce.

SUMMARY: On April 6, 2006, the Department of Commerce (“the Department”) published in the Federal Register its preliminary results of administrative review of the countervailing duty (“CVD”) order on certain welded carbon steel standard pipe from Turkey for the period January 1, 2004, through December 31, 2004. See Notice of Preliminary Results of Countervailing Duty Administrative Review: Certain Welded Carbon Steel Standard Pipe from Turkey, 71 FR 17445 (April 6, 2006) (“Turkey Pipe 2004 Preliminary”). The Department has now completed the administrative review in accordance with section 751(a) of the Tariff Act of 1930, as amended (“the Act”).

Based on our analysis of the comments received, the Department has not revised the net subsidy rate for the Borusan Group (“Borusan”), the producer/exporter of subject merchandise covered by this review.¹ Further discussion of our analysis of the comments received is provided in the accompanying issues and decision memorandum. See Issues and Decision Memorandum from Stephen J. Claeys, Deputy Assistant Secretary for Import Administration, to David M. Spooner, Assistant Secretary for Import Administration, concerning the Final Results of Administrative Review of the Countervailing Duty Order on Certain Welded Carbon Steel Standard Pipe from Turkey (July 25, 2006) (“Turkey Pipe 2004 Memorandum”). The final net subsidy rate for Borusan is listed below in the “Final Results of Review” section.

¹ During the review period, Borusan was comprised of Borusan Birlesik Boru Fabrikalari A.S., Mannesmann Boru Endustrisi T.A.S., Borusan Mannesmann Boru Sanayi ve Ticaret A.S., and Borusan Istikbal Ticaret T.A.S.

EFFECTIVE DATE: July 31, 2006.

FOR FURTHER INFORMATION CONTACT: Kristen Johnson, AD/CVD Operations, Office 3, Import Administration, International Trade Administration, U.S. Department of Commerce, 14th Street and Constitution Avenue, NW, Washington, DC 20230; telephone: (202) 482-4793.

SUPPLEMENTARY INFORMATION:

Background

On April 6, 2006, the Department published the preliminary results in the Federal Register and invited interested parties to comment on the preliminary results. See Turkey Pipe 2004 Preliminary. On May 5, 2006, we received a case brief from Borusan.²

² Neither petitioners (Allied Tube & Conduit Corporation and Wheatland Tube Company) nor the Government of the Republic of Turkey submitted either a case or rebuttal brief. In addition, none of the interested parties requested a hearing.

Pursuant to 19 CFR 351.213(b), this review covers only those producers or exporters of the subject merchandise for which a review was specifically requested. Accordingly, this review covers only Borusan. The review covers the period January 1, 2004, through December 31, 2004, and 14 programs.

Scope of the Order

The products covered by this order are certain welded carbon steel pipe and tube with an outside diameter of 0.375 inch or more, but not over 16 inches, of any wall thickness (pipe and tube) from Turkey. These products are currently provided for under the Harmonized Tariff Schedule of the United States (“HTSUS”) as item numbers 7306.30.10, 7306.30.50, and 7306.90.10. Although the HTSUS subheadings are provided for convenience and customs purposes, the written description of the merchandise is dispositive.

Analysis of Comments Received

All issues raised in Borusan's case brief are addressed in the Turkey Pipe 2004 Memorandum, which is hereby adopted by this notice. A list of the issues contained in that decision memorandum is attached to this notice as Appendix I. Parties can find a complete discussion of the issues raised in this review and the corresponding recommendations in that public memorandum, which is on file in the Central Records Unit, room B-099 of the Commerce Building. In addition, a complete copy of that memorandum can be accessed directly on the internet at http://ia.ita.doc.gov/frn, under the heading “Federal Register Notices.” The paper copy and electronic version of the decision memorandum are identical in content.

Final Results of Review

In accordance with section 705(c)(1)(B)(i) of the Act, we calculated an ad valorem subsidy rate for Borusan. For the review period, we determine the total net subsidy rate to be 0.27 percent ad valorem, which is de minimis, pursuant to 19 CFR 351.106(c).

We will instruct U.S. Customs and Border Protection (“CBP”), within 15 days of publication of the final results of this review, to liquidate shipments of subject merchandise by Borusan entered, or withdrawn from warehouse, for consumption on or after January 1, 2004, through December 31, 2004, without regard to countervailing duties. Moreover, the Department also will instruct CBP to collect cash deposits of estimated countervailing duties at zero percent ad valorem on all shipments of the subject merchandise by Borusan entered, or withdrawn from warehouse, for consumption on or after the date of publication of the final results of this review.

We will also instruct CBP to continue to collect cash deposits for non-reviewed companies at the most recent company-specific or country-wide rate applicable to the company. Accordingly, the cash deposit rate that will be applied to non-reviewed companies covered by this order will be the rate for that company established in the most recently completed administrative proceeding conducted under the Uruguay Round Agreements Act (“URAA”). If such a review has not been conducted, the rate established in the most recently completed administrative proceeding completed pursuant to the statutory provisions that were in effect prior to the URAA amendments is applicable. See Certain Welded Carbon Steel Pipe and Tube Products from Turkey; Final Results of Countervailing Duty Administrative Review, 53 FR 9791 (March 25, 1988). The “all others” rate shall apply to all non-reviewed companies until a review of a company assigned this rate is requested.

This notice also serves as a reminder to parties subject to administrative protective order (“APO”) of their responsibility concerning the disposition of proprietary information disclosed under APO in accordance with 19 CFR 351.305(a)(3). Timely written notification of the return/destruction of APO materials or conversion to judicial protective order is hereby requested. Failure to comply with the regulations and the terms of an APO is a sanctionable violation.

This administrative review and this notice are issued and published in accordance with section 751(a)(1) and 777(i)(1) of the Act.

Dated: July 25, 2006.
David M. Spooner,
Assistant Secretary for Import Administration.

APPENDIX I - ISSUES AND DECISION MEMORANDUM

METHODOLOGY & BACKGROUND INFORMATION

I. Company Information

II. Subsidies Valuation Information

A. Benchmark Interest Rates

ANALYSIS OF PROGRAMS

I. Programs Determined To Be Countervailable

A. Deduction from Taxable Income for Export Revenue

B. Pre-Shipment Export Credits

C. Foreign Trade Companies Short-Term Export Credits

D. Pre-Export Credits

II. Programs Determined To Be Not Countervailable

A. Investment Allowance Under Article 19 of Law 4842

B. Investment Allowance Under Investment Incentive Certificate

III. Programs Determined To Not Confer Countervailable Benefits

A. Export Credit Insurance

B. Inward Processing Certificate Exemption

IV. Programs Determined To Not Be Used

A. VAT Support Program (Incentive Premium on Domestically Obtained Goods)

B. Post-Shipment Export Loans

C. Pre-Shipment Rediscount Loans

D. Subsidized Turkish Lira Credit Facilities

E. Subsidized Credit for Proportion of Fixed Expenditures

F. Regional Subsidies

TOTAL AD VALOREM RATE

ANALYSIS OF COMMENTS

Comment 1: Benchmark Interest Rate for Turkish Lira Loans

Comment 2: Indirect Exports

[FR Doc. E6-12227 Filed 7-28-06; 8:45 am]

BILLING CODE 3510-DS-S